POSTAL SERVICE BOARD OF GOVERNORS

Sunshine Act Meeting

TIMES AND DATES: 9:00 a.m., Monday, August 28, 2000; 8:30 a.m., Tuesday, August 29, 2000.

PLACE: Washington, DC, at U.S. Postal Service Headquarters, 475 L'Enfant Plaza, SW., in the Benjamin Franklin Room.

STATUS: August 28 (Closed); August 29 (Open).

MATTERS TO BE CONSIDERED:

Monday, August 28—9:00 a.m. (Closed)

1. Strategic Alliance.

2. Financial Performance.

3. Office of the Inspector General FY 2001 Budget.

4. International Mail Rates.

5. Fiscal Year 2001 Annual Performance Plan—Government Performance and Results Act.

6. International Funds Transfer Services.

7. EEO Settlement Authority.

8. Personnel Matters.

9. Compensation Issues.

Tuesday, August 29—8:30 a.m. (Open)

1. Minutes of the Previous Meeting, August 7-8, 2000.

2. Remarks of the Postmaster General/Chief Executive Officer.

3. Postal Rate Commission FY 2001 Budget.

4. Capital Investments.

a. Delivery Operations Information System (DOIS).

b. 359 Automatic Flats Feeder and Optical Character Reader for Flats Sorter Machines 1000s.

c. Santa Monica, California, Advance Site Acquisition and Design.

d. San Francisco, California, Airport Mail Center Expansion.

5. Tentative Agenda for the October 2-3, 2000, meeting in San Diego, California.

CONTACT PERSON FOR MORE INFORMATION: David G. Hunter, Secretary of the Board, U.S. Postal Service, 475 L'Enfant Plaza, SW., Washington, DC 20260-1000. Telephone (202) 268-4800.

David G. Hunter,
Secretary.

[FR Doc. 00-21449 Filed 8-17-00; 4:51 pm]

BILLING CODE 7710-12-M